DEPARTMENT OF DEFENSE

Department of the Navy

Notice of Public Hearing for the Draft Environmental Impact Statement for the Disposal and Reuse of Former Naval Weapons Station Seal Beach, Detachment Concord, Concord, California

AGENCY: Department of the Navy, DoD.

ACTION: Notice.

SUMMARY: Pursuant to the National Environmental Policy Act (NEPA) of 1969 (Pub. L. 91-190, 42 United States Code [U.S.C.] 4321-4347), as implemented by the Council on Environmental Quality Regulations implementing NEPA (40 Code of Federal Regulations [CFR] parts 1500-1508), the Department of the Navy (DoN) has prepared and filed the Draft Environmental Impact Statement (EIS) to evaluate the potential environmental consequences associated with the disposal of the former Naval Weapons Station Seal Beach, Detachment Concord, Concord, California (NWS Concord), and its subsequent reuse by the local community. The DoN is initiating a 45-day public comment period to provide the community an opportunity to comment on the Draft EIS. Federal, state, and local elected officials and agencies and the public are encouraged to provide written comments. A public meeting will also be held to provide information and receive written comments on the Draft EIS.

Dates and Addresses: An open house public meeting will be held at the location listed below and will allow individuals to review and comment on the information presented in the Draft EIS. DoN representatives will be available during the open house to clarify information presented in the Draft EIS as necessary. There will not be a formal presentation.

Thursday, November 13, 2014 (4:00 p.m. to 8:00 p.m.), Concord Senior Citizens Center (Wisteria Room), 2727 Parkside Circle, Concord, California 94519.

FOR FURTHER INFORMATION CONTACT: Director, NAVFAC BRAC PMO West, Attn: Ms. Erica Spinelli, NEPA Project Manager, 1455 Frazee Road, Suite 900, San Diego, California 92108-4310, telephone: 619-532-0980, fax: 619-532-0995; email: erica.spinelli@navy.mil.

For more information on the NWS Concord EIS, visit the Navy BRAC PMO Web site (http://www.bracpmo.navy.mil/).

SUPPLEMENTARY INFORMATION: The DoN has prepared the Draft EIS for the Disposal and Reuse of the Former NWS Concord in accordance with the requirements of NEPA (42 U.S.C. Sections 4321-4347) and its implementing regulations (40 CFR Parts 1500-1508). A Notice of Intent (NOI) to prepare this Draft EIS was published in the Federal Register on March 14, 2013 (Federal Register, Vol. 78, No. 50/Friday, March 14, 2013/Notices). The DoN is the lead agency for the proposed action, with the U.S. Army Corps of Engineers serving as a cooperating agency for the preparation of this EIS.

The DoN closed the former NWS Concord on September 30, 2008, in accordance with Public Law (Pub. L.) 101-510, the Defense Base Closure and Realignment Act (DBCRA) of 1990, as amended in 2005. The DBCRA exempts the decision-making process of the Defense Base Closure and Realignment Commission from the requirements of NEPA. The DBCRA also relieves the DoN from the NEPA requirements to consider the need for closing, realigning, or transferring functions and from looking at alternative installations to close or realign. However, in accordance with NEPA, before disposing of any real property, the DoN must analyze the environmental effects of the disposal.

The purpose of the proposed action is to dispose of surplus property at the former NWS Concord for subsequent reuse in a manner consistent with the policies adopted by the City of Concord during reuse planning that took place between 2008 and 2012. The need for the proposed action is to provide the local community the opportunity for economic development and job creation.

The Draft EIS has considered two redevelopment alternatives for the disposal and reuse of NWS Concord. Both redevelopment alternatives would be generally consistent with the policies developed by the City of Concord during the reuse planning process that took place between 2008 and 2012. Both alternatives focus on the preservation of a significant amount of open space and conservation areas, and sustainable development characterized by walkable neighborhoods, transit-oriented development, and “complete streets” that balance multiple types of transportation. Under both alternatives, most installation facilities would be demolished, and the western side of the property would be developed as a series of mixed-use “development districts,” with a higher concentration of development at the north end, near State Route 4 and the North Concord/Martinez Bay Area Rapid Transit Station. Redevelopment under either alternative would include parks and open spaces, best management practices for stormwater management, and green and sustainable design and planning principles. Full build-out under either alternative would be implemented over a 25-year period. A No Action alternative was also considered, as required by NEPA and to provide a point of comparison for assessing impacts of the redevelopment alternatives.

Alternative 1 includes the disposal of the former NWS Concord by the DoN and its reuse in a manner consistent with the adopted Concord Reuse Project (CRP) Area Plan. This alternative has been identified as the Preferred Alternative by the DoN. Under this alternative, redevelopment of approximately 2,500 acres of the former installation property would take place and would include a mix of land use types and densities. This alternative would also result in the preservation of a significant area of open space and conservation areas. The redevelopment would include approximately 6.1 million square feet of commercial floor space and up to 12,272 residential housing units.

Alternative 2 provides for the disposal of the former installation property by the DoN and its reuse in a manner similar to the Area Plan but with a higher density of residential development than under Alternative 1 and within a smaller footprint. Under this alternative, redevelopment of approximately 2,200 acres of the former installation property with a mix of land use types and densities would take place. This alternative would also include the preservation of a significant amount of open space and conservation areas. The alternative calls for approximately 6.1 million square feet of commercial building space and up to 15,872 residential housing units. Alternative 2 as presented in the Draft EIS is different from Alternative 2 as presented in the NOI circulated during the public scoping period in March and April 2013. Alternative 2 was revised by the DoN in response to comments received during the public scoping period to be more consistent with the land use planning policies adopted by the City of Concord as well as known and foreseeable market conditions. Comments on Alternative 2 received during the scoping period addressed the smaller area designated for conservation and open space in this alternative, as well as concerns regarding higher levels of traffic, noise, and air impacts. Accordingly, the revised Alternative 2 is more similar to the adopted policies of the City of Concord as expressed in the CRP Area Plan, reflecting a similar but slightly smaller development footprint and representing a realistic reuse scenario.

The No Action Alternative is also analyzed in the Draft EIS, as required by NEPA. Under this alternative, NWS Concord would be retained by the U.S. government in caretaker status. No reuse or redevelopment would occur.

The Draft EIS addresses potential environmental impacts under each alternative associated with land use and zoning; socioeconomics and environmental justice; air quality and greenhouse gases; biological resources; cultural resources; topography, geology, and soils; hazards and hazardous substances; noise; public services; transportation, traffic, and circulation; utilities and infrastructure; visual resources and aesthetics; and water resources. The analysis addresses direct and indirect impacts, and accounts for cumulative impacts from other foreseeable federal, state, or local activities at and around the former NWS Concord property. The DoN conducted a scoping process to identify community concerns and local issues that should be addressed in the EIS. The DoN considered the comments provided, which identified specific issues or topics of environmental concern, in determining the scope of the EIS. The Draft EIS identifies significant adverse impacts to air quality and traffic, and significant beneficial impacts to socioeconomics and public services. The Draft EIS has been distributed to various federal, state, and local agencies, as well as other interested individuals and organizations.

Federal, state, and local agencies, as well as interested members of the public, are invited and encouraged to review and comment on the Draft EIS. The Draft EIS is available for viewing at the following locations:

Concord Library, 2900 Salvio Street, Concord, CA 94519

Pittsburg Library, 80 Power Avenue, Pittsburg, CA 94565

Pleasant Hill Library, 1750 Oak Park Boulevard, Pleasant Hill, CA 94523

An electronic version of the Draft EIS can be viewed or downloaded at the following Web site: http://www.bracpmo.navy.mil. A limited number of hard copies are available by contacting the DoN's Base Realignment and Closure Program Management Office (BRAC PMO) at the address in this notice.

Comments can be made in the following ways: (1) Written statements can be submitted to a DoN representative at the public meeting; (2) written comments can be mailed to Director, NAVFAC BRAC PMO West, Attn: Ms. Erica Spinelli, NEPA Project Manager, 1455 Frazee Road, Suite 900, San Diego, California 92108-4310; (3) written comments can be emailed to erica.spinelli@navy.mil; or (4) comments can be faxed to 619-532-0995, Attn: Ms. Erica Spinelli. Comments may be submitted without attending the public meeting. All comments postmarked or emailed no later than midnight, November 25, 2014, will become part of the public record and will be responded to in the Final EIS.

Requests for special assistance, sign language interpretation for the hearing impaired, language interpreters, or other auxiliary aids for the scheduled public meeting must be sent by mail or email to Ms. Jone Guerin, Ecology and Environment, Inc., 368 Pleasant View Drive, Lancaster, NY 14086, telephone: 716-684-8060, email: jguerin@ene.com no later than October 30, 2014.

Dated: October 6, 2014.
N.A. Hagerty-Ford,
Commander, Office of the Judge Advocate General, U.S. Navy, Federal Register Liaison Officer.

[FR Doc. 2014-24286 Filed 10-9-14; 8:45 am]

BILLING CODE 3810-FF-P